DEPARTMENT OF DEFENSE

Department of the Army

Performance Review Board Membership

AGENCY: Department of the Army, DoD.

ACTION: Notice.

SUMMARY: Notice is given of the names of members of a Performance Review Board for the Department of the Army.

DATES: Applicable November 26, 2025.

FOR FURTHER INFORMATION CONTACT: Barbara Smith, Civilian Senior Leader Management Office, 102 Army Pentagon, Washington, DC 20310-0102, email: barbara.m.smith.civ@army.mil or Phone: (703) 693-1126.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Mr. Derrick Anderson, Principal Deputy Assistant Secretary of the Army (Manpower and Reserve Affairs)

2. HON Marc Anderson, Assistant Secretary of the Army (Financial Management and Comptroller)

3. Mr. Michael Bailey, Director, Chemical Biological Center, U.S. Army Combat Capabilities Development Command

4. Mr. Peter Bechtel, Assistant Deputy Chief of Staff, G-3/5/7, Deputy Chief of Staff, G-3/5/7

5. BG Christine Beeler, Program Executive Officer, U.S. Army Acquisition Support Center

6. Ms. Julie Blanks, Executive Director for Manpower and Reserve Affairs, Assistant Secretary of the Army (Manpower and Reserve Affairs)

7. Mr. Nicholas Boone, Director, Geotechnical and Structures Lab, U.S. Army Corps of Engineers

8. Mr. John Bradsher, Director, Operations and Integration, U.S. Army Intelligence and Security Command

9. LTG Gregory J. Brady, The Inspector General, U.S. Army Office of the Inspector General

10. Mr. Timothy Bridges, Executive Director for Navy Installations Command, U.S. Dept of Navy

11. LTG E. Miles Brown, Deputy Commanding General, U.S. Army Transformation and Training Command

12. MG Timothy D. Brown, Commander, U.S. Army Intelligence and Security Command

13. Ms. Kimberly Buehler, Director, Small Business Programs, Office of the Secretary of the Army

14. Mr. Brian Butler, Deputy to the Commander, U.S. Army Tank-Automotive and Armaments Command

15. Mr. James B. Byrn, Chief of Legislative Liaison

16. Mr. Michael Cadieux, Director, CCDC Ground Vehicle Systems Center, U.S. Army Combat Capabilities Development Command

17. Ms. Holly Carey, Deputy Director and Sr Advisor for Army Budget, Office of the Secretary of the Army (Financial Management and Comptroller)

18. LTG Robert Collins, Military Deputy/Director, Army Acquisition Corps, Office of the Assistant Secretary of the Army (Acquisition, Logistics and Technology)

19. Ms. Robin Colosimo, Deputy Assistant Secretary of the Army (Project, Planning, and Review), Office of the Assistant Secretary of the Army (Civil Works)

20. Ms. Diana Connolly, Director, Office of Analytics Integration

21. Mr. Richard De Fatta, Deputy to the Commander, U.S. Army Space and Missile Defense Command/Army Forces Strategic Command

22. Ms. Karen Durham-Aguilera, Executive Director, U.S. Army National Cemeteries

23. Dr. Elizabeth Fleming, Director, Engineer Research and Development Center, U.S. Army Corps of Engineers

24. Mr. Michael Formica, Executive Deputy to the Commander, U.S. Army Transformation and Training Command

25. Mr. D. Lee Forsgren, Principal Deputy Assistant Secretary of the, Army (Civil Works), Office of the Assistant Secretary of the Army (Civil Works)

26. Dr. Karl Friedl, Senior Research Scientist (Performance Physiology), U.S. Army Research Institute of Environmental Medicine

27. LTG Sean A. Gainey, Commanding General, U.S. Army Space and Missile Defense Command

28. BG Kirk E. Gibbs, Deputy Chief of Engineers, Office of the Chief of Engineers/Deputy Commanding General, U.S. Army Corps of Engineers

29. LTG William H. Graham, Chief of Engineers/Commanding General, U.S. Army Corps of Engineers

30. Ms. Elizabeth Griffin, Director of Human Resources, U.S. Army Corps of Engineers

31. HON Jordan Gillis, Assistant Secretary of the Army (Installations, Energy and Environment)

32. Mr. Terence E. Hagans II, Chief of Staff to the Secretary of the Army

33. HON Brent Ingraham, Assistant Secretary of the Army (Acquisitions, Logistics and Technology)

34. Ms. Laurel Rebecca Hodson, Director, Army Communications and Outreach Office

35. MG Jason E. Kelly, Deputy Commanding General for Civil and Emergency Operations, U.S. Army Corps of Engineers

36. Mr. David Kim, Director of Support, U.S. Force Modernization, U.S. Army Intelligence and Security Command

37. Ms. Candice Kinn, Principal Deputy Assistant Secretary of the Army (Financial Management and Comptroller), Office of the Assistant Secretary of the Army (Financial Management and Comptroller)

38. Mr. Daniel Klippstein, Assistant Deputy Chief of Staff, G-9, Office of the Deputy Chief of Staff, G-9

39. Mr. Norman Lawrence, Deputy to the Commanding General, U.S. Army Intelligence Center of Excellence and Fort Huachuca, U.S. Army Transformation and Training Command

40. Dr. David Markowitz, Deputy Chief of Information Officer/Chief Data Officer and Analytics Officer, Office of the Chief Information Officer

41. Mr. Patrick Mason, Deputy Assistant Secretary of the Army for Defense Exports and Cooperation, Office of Assistant Secretary of the Army (Acquisition, Logistics, and Technology)

42. Mr. David May, Senior Cyber Intelligence Advisor, Cyber Center of Excellence, U.S. Army Transformation and Training Command

43. Ms. Elizabeth Millard-Harkema, Director, Resources Integration, Deputy Chief of Staff, G-2

44. Dr. Alexander Miller, (S&T) Advisor and Chief Technology Officer, Office of the Chief of Staff of the Army

45. Mr. Bruce B. Miller, The Auditor General, U.S. Army Audit Agency

46. Ms. Hong Miller, Chief Human Capital Officer, U.S. Army Transformation and Training Command

47. Ms. Liz Miranda, Executive Deputy to the Commanding General, U.S. Army Materiel Command

48. Mr. Lawrence Mixon, Special Assistant to the Program Executive Officer (Intelligence, Electronic Warfare and Sensors), Office of the Program Executive Officer (Intelligence, Electronic Warfare and Sensors)

49. Mr. Michael Monteleone, Director, All Domain Sensing Cross-Functional Team, U.S. Army Transformation and Training Command

50. Mr. Eric Moore, Deputy to the Commanding General, U.S. Army Combat Capabilities Development Command

51. Mr. Adam Nucci, Principal Director, Policy Resources and Analysis, Office of the Chief Information Officer

52. Ms. Karen Pane, Director of Human Resources Agency, U.S. Army Civilian Human Resources Agency

53. Dr. Anne Petrock, Senior Research Scientist (Warheads Technology), U.S. Army Combat Capabilities Development Command

54. Mr. Brandon Pugh, Principal Cyber Advisor to the Secretary of the Army, Office of the Secretary of the Army

55. MG Mark C. Quander, Deputy Commanding General, Military Programs and International Operations, U.S. Army Corps of Engineers

56. Ms. Diane Randon, Assistant Deputy Chief of Staff, G-2, Office of the Deputy Chief of Staff, G-2

57. Mr. Daniel Reilly, Deputy to the Commanding General, U.S. Army Sustainment Command, U.S. Army Material Command

58. Dr. Peter Reynolds, Senior Research Scientist (Physical Sciences), U.S. Army Combat Capabilities Development Command

59. Mr. J. Randall Robinson, Executive Deputy to the Commanding General, U.S. Army Installation Management Command

60. LTG Joseph A. Ryan, Commanding General, U.S. Army Western Hemisphere Command

61. Dr. Robert Sadowski, Senior Research Scientist (Robotics), U.S. Army Combat Capabilities Development Command

62. Mr. Matthew Sannito, Administrative Assistant to the Secretary of the Army, Office of the Administrative Assistant

63. Mr. Bryan Shone, Assistant Deputy Chief of Staff, G-8, Office of the Deputy Chief of Staff, G-8

64. Mr. Christopher Sims, Chief of Staff to the Deputy Under Secretary of the Army, Office of the Secretary of the Army

65. Mr. Thomas Smith, Chief, Engineering and Construction Division, U.S. Army Corps of Engineers

66. Mr. Robert Steinrauf, Director, Plans and Resources Directorate, Office of the Deputy Chief of Staff, G-1

67. Mr. Stephen Suh, Deputy Director of Administration and Management, Office of the Director of Administration and Management

68. Mr. Stephen Sullivan, Director, Resource Management and Material, Office of the Chief, Army Reserve

69. Mr. Douglas Tamilio, Director, CCDC Soldier Center, U.S. Army Combat Capabilities Development Command

70. HON Adam Telle, Assistant Secretary of the Army (Civil Works)

71. Mr. Brian Toland, Command Counsel, Headquarters, U.S. Army Materiel Command

72. Mr. Jesse Tolleson, Principal Deputy Assistant Secretary of the Army (Acquisitions, Logistics and Technology), Office of the Assistant Secretary of the Army (Acquisitions, Logistics and Technology)

73. Dr. Jeff Waksman, Principal Deputy Assistant Secretary of the Army (Installations, Energy and Environment), Office of the Assistant Secretary of the Army (Installations, Energy and Environment)

74. Mr. Roy Wallace, Assistant Deputy Chief of Staff, G-1, Office of the Deputy Chief of Staff, G-1

75. Mr. Joseph Welch, Capability Portfolio Executive (CPE), C2, Counter C2, Office of the Capability Portfolio Executive

76. Ms. Kathryn Yurkanin, Principal Deputy Chief of Legislative Liaison, Office of the Chief, Legislative Liaison

77. Mr. Daniel Zevitz, Principal Deputy General Counsel, Office of General Counsel

James W. Satterwhite Jr.,
Army Federal Register Liaison Officer.

[FR Doc. 2025-22150 Filed 12-5-25; 8:45 am]

BILLING CODE 3711-CC-P